DEPARTMENT OF AGRICULTURE

Forest Service

Southern Region Recreation Resource Advisory Committee

AGENCY: Forest Service, USDA.

ACTION: Notice of meeting.

SUMMARY: The Southern Region Recreation Resource Advisory Committee (Recreation RAC) will meet in Atlanta, Georgia. The Recreation RAC is authorized pursuant with the Federal Lands Recreation Enhancement Act of 2004 (the Act) and operations in compliance with the Federal Advisory Committee Act. The purpose of the committee is to provide recommendations to the Secretary on recreation fees on lands and waters managed by the Forest Service and the Department of the Interior's Bureau of Land Management (BLM) in the regions covered by each Committee. Recreation RAC information can be found at the following website: https://www.fs.usda.gov/main/r8/recreation/racs.

DATES: The meeting will be held on the following dates:

• Thursday, June 21, 2018, from 8:30 a.m.-4:30 p.m.; and

• Friday, June 22, 2018, from 8:30 a.m.-4:30 p.m.

All Recreation RAC meetings are subject to cancellation. For status of the meetings prior to attendance, please contact the person listed under the FOR FURTHER INFORMATION CONTACT.

ADDRESSES: The meeting will be held at the Grand Hyatt Atlanta in Buckhead, 3300 Peachtree Road Northeast, Atlanta, Georgia. The meeting will also be held via teleconference. For anyone who would like to attend the teleconference, please visit the website listed in the SUMMARY section or contact Caroline Mitchell at carolinemitchell@fs.fed.us.

Written comments may be submitted as described under Supplementary Information. All comments, including names and addresses when provided, are placed in the record and available for public inspection and copying. The public may inspect comments received at the USDA Forest Service, 1720 Peachtree Road Northwest, Atlanta, Georgia. Visitors are encouraged to call ahead at 404-347-2769 to facilitate entry into the USDA Forest Service building.

FOR FURTHER INFORMATION CONTACT: Caroline Mitchell, Southern Region Assistant Recreation RAC Coordinator by phone at 501-321-5318, or via email at carolinemitchell@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to receive recommendations concerning recreation fee proposals on areas managed by the Forest Service in Florida, Georgia, Louisiana, North Carolina, Texas, and Virginia.

The meeting is open to the public. The agenda will include time for people to make oral statements of three minutes or less. Individuals wishing to make an oral statement should request in writing by June 11, 2018, to be scheduled on the agenda. Anyone who would like to bring related matters to the attention of the committee may file written statements with the committee staff before or after the meeting. Written comments and requests for time for oral comments must be sent to Chris Sporl, Designated Federal Officer, Southern Recreation Resource Advisory Committee, USDA Forest Service, 1720 Peachtree Road Northwest, Atlanta, Georgia 30309; by email to cfsporl@fs.fed.us, or via facsimile to 404-347-1065.

Meeting Accommodations: If you are a person requiring reasonable accommodation, please make requests in advance for sign language interpreting, assistive listening devices or other reasonable accommodation. For access to the facility or proceedings, please contact the person listed in the section titled FOR FURTHER INFORMATION CONTACT. All reasonable accommodation requests are managed on a case by case basis.

Dated: May 24, 2018.
Christopher French,
Associate Deputy Chief, National Forest System.

[FR Doc. 2018-12172 Filed 6-5-18; 8:45 am]

BILLING CODE 3411-15-P